SECURITIES AND EXCHANGE COMMISSION

[File No. 500-1]

Big Bear Mining Corp., Four Rivers BioEnergy, Inc., Mainland Resources, Inc., QI Systems Inc., South Texas Oil Co., and Synova Healthcare Group, Inc.; Order of Suspension of Trading

September 10, 2013.

It appears to the Securities and Exchange Commission that there is a lack of current and accurate information concerning the securities of Big Bear Mining Corp. because it has not filed any periodic reports since the period ended December 31, 2011.

It appears to the Securities and Exchange Commission that there is a lack of current and accurate information concerning the securities of Four Rivers BioEnergy, Inc. because it has not filed any periodic reports since the period ended July 31, 2011.

It appears to the Securities and Exchange Commission that there is a lack of current and accurate information concerning the securities of Mainland Resources, Inc. because it has not filed any periodic reports since the period ended February 29, 2012.

It appears to the Securities and Exchange Commission that there is a lack of current and accurate information concerning the securities of QI Systems, Inc. because it has not filed any periodic reports since the period ended March 31, 2007.

It appears to the Securities and Exchange Commission that there is a lack of current and accurate information concerning the securities of South Texas Oil Co. because it has not filed any periodic reports since the period ended June 30, 2009.

It appears to the Securities and Exchange Commission that there is a lack of current and accurate information concerning the securities of Synova Healthcare Group, Inc. because it has not filed any periodic reports since the period ended September 30, 2007.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on September 10, 2013, through 11:59 p.m. EDT on September 23, 2013.

By the Commission.
Jill M. Peterson,
Assistant Secretary.

[FR Doc. 2013-22302 Filed 9-10-13; 4:15 pm]

BILLING CODE 8011-01-P